DEPARTMENT OF DEFENSE

Department of the Army; Corps of Engineers

Withdrawal of Notice of Intent for the Environmental Impact Statement Process for the Compass Minerals—Ogden's Solar Evaporation Pond Expansion Project Within the Great Salt Lake, Box Elder County, UT

AGENCY: Department of the Army; Corps of Engineers, DoD.

ACTION: Notice of Intent; withdrawal.

SUMMARY: In accordance with the National Environmental Policy Act (NEPA), on November 1, 2007 the U.S. Army Corps of Engineers (Corps), Sacramento District, initiated the Environmental Impact Statement (EIS) process to evaluate the effects of the proposed expansion of solar evaporation ponds in the Great Salt Lake, Box Elder County, Utah and to assist the Corps in deciding whether to approve Great Salt Lake Mineral Corporation's application under Section 404 of the Clean Water Act. On December 23, 2015, the applicant for the proposed project withdrew their application for a Department of the Army Permit. Therefore, the Corps is terminating the EIS process, and is issuing this Notice of Intent to withdraw the November 1, 2007 Notice of Intent to Prepare an EIS.

FOR FURTHER INFORMATION CONTACT: Questions about the proposed action and this Notice of Intent can be answered by Mr. Jason Gipson at 801-295-8380 x14, or email at Jason.A.Gipson@usace.army.mil. Please refer to identification number SPK-2007-00121.

SUPPLEMENTARY INFORMATION: Great Salt Lake Minerals Corporation, now Compass Minerals-Ogden (CMO) applied for Corps authorization under Section 404 of the Clean Water Act in 2007. The project as proposed would have resulted in the discharge of dredged and/or fill material into 107.3 acres of the Great Salt Lake to expand solar pond evaporation areas adjacent to existing ponds on the west side of the Great Salt Lake by constructing 54,000 acres of additional ponds. Due to potentially significant environmental effects associated with the proposed action, on November 1, 2007, the Corps issued a Notice of Intent to Prepare and EIS (72 FR 61871). Since publishing the Notice of Intent, the applicant has redesigned the project such that no waters of the U.S. would be impacted by the project and have withdrawn their permit application. As such, the Corps is terminating the EIS process, in accordance with Corps regulations at 33 CFR part 230, Appendix C(2) and 33 CFR part 325, Appendix (8)(g).

Dated: April 6, 2016.
Jeffrey S. Palazini,
LTC, EN, Deputy District Commander.

[FR Doc. 2016-14688 Filed 6-21-16; 8:45 am]

BILLING CODE 3720-58-P